DEPARTMENT OF HOMELAND SECURITY

Federal Emergency Management Agency

44 CFR Part 67

[Docket ID FEMA-2010-0003; Internal Agency Docket No. FEMA-B-1144]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before January 5, 2011.

ADDRESSES: The corresponding preliminary Flood Insurance Rate Map (FIRM) for the proposed BFEs for each community is available for inspection at the community's map repository. The respective addresses are listed in the table below.

You may submit comments, identified by Docket No. FEMA-B-1144, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
McCracken County, Kentucky, and Incorporated Areas
Arnold Branch (backwater effects from Ohio River) | From the confluence with Blizzards Ponds Drainage Ditch to approximately 0.7 mile upstream of the Blizzards Ponds Drainage Canal | None | +341 | Unincorporated Areas of McCracken County.
Bayou Creek (backwater effects from Ohio River) | From the confluence with the Ohio River to approximately 1.0 mile downstream of Ogden Landing Road | +333 | +336 | Unincorporated Areas of McCracken County.
Blizzards Ponds Drainage Canal (backwater effects from Ohio River) | From the confluence with West Fork Clarks River to approximately 275 feet upstream of Husband Road | None | +341 | Unincorporated Areas of McCracken County.
Camp Creek (backwater effects from Ohio River) | From the confluence with West Fork Clarks River to approximately 0.5 mile downstream of KY-348 | None | +341 | Unincorporated Areas of McCracken County.
Clarks River (backwater effects from Ohio River) | From the confluence with the Ohio River to approximately 0.7 mile upstream of KY-787 | None | +341 | Unincorporated Areas of McCracken County.
Crooked Creek | At the confluence with Perkins Creek | +365 | +363 | Unincorporated Areas of McCracken County.
| Approximately 400 feet upstream of U.S. Route 62 | None | +402
Cross Creek | Just upstream of the Illinois Central Railroad Yard | +333 | +331 | Unincorporated Areas of McCracken County.
| Approximately 345 feet upstream of South 24th Street | +343 | +341
Deer Lick Creek (backwater effects from Ohio River) | From the confluence with the Ohio River to approximately 2.9 miles upstream of the confluence with the Ohio River | None | +336 | Unincorporated Areas of McCracken County.
Horse Branch (backwater effects from Ohio River) | From the confluence with the Clarks River to approximately 85 feet downstream of Georgia Street South | None | +341 | Unincorporated Areas of McCracken County.
Island Creek Tributary 6.1 (backwater effects from Island Creek) | From the confluence with Island Creek to approximately 800 feet downstream of I-24 | None | +336 | Unincorporated Areas of McCracken County.
Little Bayou Creek (backwater effects from Ohio River) | From the confluence with Bayou Creek to approximately 2.3 miles downstream of Ogden Landing Road | +334 | +336 | Unincorporated Areas of McCracken County.
Little Massac Creek (backwater effects from West Fork Massac Creek) | From the confluence with West Fork Massac Creek to approximately 1,000 feet upstream of the confluence with West Fork Massac Creek | None | +378 | Unincorporated Areas of McCracken County.
Middle Fork | Approximately 1,800 feet upstream of the confluence with Massac Creek | +354 | +352 | City of Paducah, Unincorporated Areas of McCracken County.
Massac Creek | Approximately 1,700 feet upstream of McCracken Boulevard | +355 | +354
Nasty Creek (backwater effects from Ohio River) | From the confluence with Newtons Creek I to approximately 0.6 mile upstream of Grief Road | None | +335 | Unincorporated Areas of McCracken County.
Newtons Creek I (backwater effects from Ohio River) | From the confluence with the Ohio River to approximately 0.7 mile upstream of Grief Road | None | +335 | Unincorporated Areas of McCracken County.
Ohio River | Approximately 1,700 feet downstream of the confluence with Redstone Creek | +331 | +334 | City of Paducah, Unincorporated Areas of McCracken County.
| Approximately 2.0 miles upstream of the confluence with the Tennessee River | +339 | +340
Perkins Creek | At the confluence with the Ohio River | +337 | +339 | City of Paducah, Unincorporated Areas of McCracken County.
| Approximately 0.5 mile upstream of Blandville Road | None | +399
Perkins Creek Tributary 4 (backwater effects from Ohio River) | From the confluence with Perkins Creek to approximately 80 feet downstream of U.S. Route 60 | None | +339 | City of Paducah, Unincorporated Areas of McCracken County.
Redstone Creek (backwater effects from Ohio River) | From the confluence with Redstone Creek Tributary 5 to approximately 0.6 mile upstream of the confluence with Redstone Creek Tributary 5 | +332 | +335 | Unincorporated Areas of McCracken County.
Redstone Creek Tributary 5 (backwater effects from Ohio River) | From the confluence with Redstone Creek to approximately 0.5 mile upstream of the confluence with Redstone Creek | +332 | +335 | Unincorporated Areas of McCracken County.
Tennessee River | At the confluence with the Ohio River | +339 | +340 | City of Paducah, Unincorporated Areas of McCracken County.
| Approximately 3.0 miles upstream of U.S. Route 60 | None | +341
West Fork Clarks River (backwater effects from Ohio River) | From the confluence with Clarks River to approximately 3.7 miles upstream of the confluence with Camp Creek at the county boundary | None | +341 | Unincorporated Areas of McCracken County.
West Fork Massac Creek (backwater effects from Ohio River) | From the confluence with Massac Creek to approximately 2,000 feet upstream of Wilmington Road | +336 | +338 | Unincorporated Areas of McCracken County.
* National Geodetic Vertical Datum. | + North American Vertical Datum. | # Depth in feet above ground. | ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Paducah
Maps are available for inspection at City Hall, 300 South 5th Street, Paducah, KY 42002.
Unincorporated Areas of McCracken County
Maps are available for inspection at the McCracken County Courthouse, 301 South 6th Street, Paducah, KY 42003.
Franklin County, Pennsylvania | (All Jurisdictions)
Back Creek | At the confluence with Conococheague Creek | None | +481 | Township of Antrim, Township of Peters.
| Approximately 180 feet upstream of the confluence with Conococheague Creek | None | +481
Conodoguinet Creek | Approximately 500 feet downstream of Burnt Mill Road | None | +544 | Township of Letterkenny, Township of Lurgan.
| Approximately 1.49 mile upstream of Tanyard Hill Road (State Route 433) | None | +603
Middle Spring Creek | Approximately 20 feet upstream of Hot Point Avenue (Avon Drive) | None | +630 | Township of Southampton.
| Approximately 80 feet upstream of Hot Point Avenue (Avon Drive) | None | +630
Tributary to Falling Spring Branch | At the confluence with Falling Spring Branch | +634 | +631 | Township of Guilford.
| At the upstream inlet of the I-81 culvert | +634 | +631
Unnamed Tributary to West Branch Antietam Creek | Approximately 1,900 feet downstream of the Access Road Bridge | None | +637 | Township of Washington.
| Approximately 100 feet downstream of the Access Road Bridge | None | +647
* National Geodetic Vertical Datum. | + North American Vertical Datum. | # Depth in feet above ground. | ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Township of Antrim
Maps are available for inspection at the Antrim Township Municipal Building, 10655 Antrim Church Road, Greencastle, PA 17225.
Township of Guilford
Maps are available for inspection at the Guilford Township Building, 115 Spring Valley Road, Chambersburg, PA 17201.
Township of Letterkenny
Maps are available for inspection at the Letterkenny Township Building, 4924 Orrstown Road, Orrstown, PA 17244.
Township of Lurgan
Maps are available for inspection at the Lurgan Township Building, 8650 McClays Mill Road, Newburg, PA 17240.
Township of Peters
Maps are available for inspection at the Peters Township Building, 5342 Lemar Road, Mercersburg, PA 17236.
Township of Southampton
Maps are available for inspection at the Township Building, 705 Municipal Drive, Southampton, PA 17257.
Township of Washington
Maps are available for inspection at the Washington Township Building, 13013 Welty Road, Waynesboro, PA 17268.
Marion County, South Carolina, and Incorporated Areas
Little Pee Dee River | Just upstream of Drama Court extended | None | +28 | Unincorporated Areas of Marion County.
| Just downstream of U.S. Route 76 | None | +51
Sellers Branch | Approximately 250 feet downstream of Church Street | None | +72 | Town of Sellers, Unincorporated Areas of Marion County.
| Approximately 1,500 feet upstream of Main Street | None | +85
White Oak Creek Tributary 1.1 | At the confluence with White Oak Creek Tributary 1 | None | +84 | City of Mullins.
| Approximately 50 feet downstream of Lowman Street | None | +95
* National Geodetic Vertical Datum. | + North American Vertical Datum. | # Depth in feet above ground. | ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Mullins
Maps are available for inspection at 151 East Front Street, Mullins, SC 29574.
Town of Sellers
Maps are available for inspection at 2552 U.S. Route 301, Sellers, SC 29592.
Unincorporated Areas of Marion County
Maps are available for inspection at 1305 North Main Street, Marion, SC 29571.
Kaufman County, Texas, and Incorporated Areas
Brooklyn Branch | At the confluence with Mustang Creek | None | +457 | City of Forney.
| Approximately 1,382 feet upstream of Ridgecrest Road | None | +471
Buffalo Creek | Just upstream of Union Pacific Railroad | None | +389 | City of Forney, Unincorporated Areas of Kaufman County.
| Just upstream of FM 740 | None | +403
Cedar Creek | Approximately 2.9 miles downstream of U.S. Route 175 | None | +342 | City of Mabank, Unincorporated Areas of Kaufman County.
| Approximately 1 mile downstream of State Highway 274 | None | +342
Duck Creek | Approximately 925 feet downstream of Country Road 337 | None | +458 | Unincorporated Areas of Kaufman County.
| Approximately 1,755 feet upstream of FM 2728 | None | +485
East Fork Trinity River | Just upstream of Union Pacific Railroad | None | +389 | City of Dallas, City of Heath, Unincorporated Areas of Kaufman County.
| Approximately 0.85 mile upstream of the Rockwell-Forney Dam | None | +398
Mustang Creek | Approximately 0.51 mile upstream of Shady Brook Lane | None | +413 | City of Forney, Unincorporated Areas of Kaufman County.
| Approximately 0.51 mile upstream of Ridgecrest Road | None | +480
Unnamed Tributary to Kings Creek | Approximately 1,600 feet upstream of the confluence with Kings Creek (Upper Reach) | None | +486 | City of Terrell, Unincorporated Areas of Kaufman County.
| Approximately 0.91 mile upstream of the confluence with Kings Creek (Upper Reach) | None | +506
* National Geodetic Vertical Datum. | + North American Vertical Datum. | # Depth in feet above ground. | ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Dallas
Maps are available for inspection at 320 East Jefferson Boulevard, Room 307, Dallas, TX 75203.
City of Forney
Maps are available for inspection at City Hall, 101 West Main Street, Forney, TX 75126.
City of Heath
Maps are available for inspection at City Hall, 200 Laurence Drive, Heath, TX 75032.
City of Mabank
Maps are available for inspection at City Hall, 129 East Market Street, Mabank, TX 75147.
City of Terrell
Maps are available for inspection at City Hall, 201 East Nash Street, Terrell, TX 75160.
Unincorporated Areas of Kaufman County
Maps are available for inspection at the Kaufman County Courthouse, 100 West Mulberry Street, Kaufman, TX 75142.

(Catalog of Federal Domestic Assistance No. 97.022, “Flood Insurance.”)

Dated: September 21, 2010.
Edward L. Connor,
Acting Federal Insurance and Mitigation Administrator, Department of Homeland Security, Federal Emergency Management Agency.

[FR Doc. 2010-25337 Filed 10-6-10; 8:45 am]

BILLING CODE 9110-12-P